DEPARTMENT OF TRANSPORTATION

Federal Highway Administration

[Docket No. FHWA-2006-25264]

Agency Information Collection Activities: Request for Comments for New Information Collection

AGENCY: Federal Highway Administration (FHWA), DOT.

ACTION: Notice and request for comments.

SUMMARY: The FHWA has forwarded the information collection request described in this notice to the Office of Management and Budget (OMB) for approval of a new information collection. We published a Federal Register Notice with a 60-day public comment period on this information collection on November 21st, 2005. We are required to publish this notice in the Federal Register by the Paperwork Reduction Act of 1995.

DATES: Please submit comments by August 7, 2006.

ADDRESSES: You may send comments, within 30 days, to the Office of Information and Regulatory Affairs, Office of Management and Budget, 725 17th Street, NW., Washington, DC 20503, Attention DOT Desk Officer. You are asked to comment on any aspect of this information collection, including: (1) Whether the proposed collection is necessary for the FHWA's performance; (2) the accuracy of the estimated burden; (3) ways for the FHWA to enhance the quality, usefulness, and clarity of the collected information; and (4) ways that the burden could be minimized, including the use of electronic technology, without reducing the quality of the collected information. All comments should include the Docket number FHWA-2006-25264.

FOR FURTHER INFORMATION CONTACT: Mr. Chris Jaeschke, (703) 404-6306, Planning and Programming (HFPP-15), Eastern Federal Lands Highway Division, Federal Highway Administration, Department of Transportation, 21400 Ridgetop Circle, Sterling, VA 20166. Office hours are from 7:30 a.m. to 4 p.m., Monday through Friday, except Federal holidays.

SUPPLEMENTARY INFORMATION: Title: George Washington Birthplace National Historic Site, Visitor Transportation Survey.

Background: The transportation related data that is collected is used for management decisions that affect visitor access and mobility, including estimates of the facility's future highway needs and assessments of highway system performance. The information is used by the FHWA to develop and implement legislation and by State and Federal transportation officials to adequately plan, design, and administer effective, safe, and efficient transportation systems in and around the subject facility. This data is essential to the FHWA and Congress in evaluating the effectiveness of the Federal-Lands Highway Program (FLHP). The data that is required by the FLHP is continually reassessed and streamlined by the FHWA.

Respondents: General public visitors to the National Historic Site.

Estimated Average Burden Per Response: The estimated average reporting burden per response is 10 minutes.

Estimated Total Annual Burden: The estimated total annual burden for all respondents is 17 hours.

Electronic Access: Internet users may access all comments received by the U.S. DOT Dockets, Room PL-401, by using the universal resource locator (URL) http://dms.dot.gov, 24 hours each day, 365 days each year. Please follow the instructions online for more information and help.

Authority: The Paperwork Reduction Act of 1995; 44 U.S.C. Chapter 35, as amended; and 49 CFR 1.48.

Issued on: June 29, 2006.
James R. Kabel,
Chief, Management Programs and Analysis Division.

[FR Doc. E6-10594 Filed 7-6-06; 8:45 am]

BILLING CODE 4910-22-P